DEPARTMENT OF ENERGY

Federal Energy Regulatory Commission

[Docket Nos. CP03-75-003; CP03-75-004; CP05-361-001; CP05-361-002]

Freeport LNG Development, L.P.; Notice of Intent To Prepare an Environmental Assessment for the Proposed Freeport LNG Export and Bog Liquefaction and Truck Delivery Facilities Projects and Request for Comments on Environmental Issues

January 12, 2009.

The staff of the Federal Energy Regulatory Commission (FERC or Commission) will prepare an environmental assessment (EA) that will address the environmental impacts of the Freeport LNG Export Project (Export Project) and Bog Liquefaction and Truck Delivery Facilities Project (BOG/Truck Project) collective called the Freeport Projects proposed by Freeport LNG Development, L.P. (Freeport LNG) in Brazoria County, Texas.¹ This EA will be used by the Commission in its decision-making process to determine whether or not to authorize the projects.²

¹ During routine terminal operations, ambient heat in the LNG storage tanks and piping causes small amount of LNG to evaporate. The vaporizing LNG is referred to as BOG or boil-off gas. The BOG increases the storage tank pressure until a point where it must be transferred, flared, or re-liquefied.

² On November 19, and December 9, 2008, Freeport LNG filed its applications with the Commission under section 3 of the Natural Gas Act and Part 157 of the Commission's regulations. The Commission issued its Notices of Application on December 2, and 16, 2009.

This notice announces the opening of the scoping process we ³ will use to gather environmental input from the public and interested agencies on the projects. Your input will help the Commission staff determine which issues need to be addressed.

³ ‘We,’ ‘us,’ and ‘our’ refer to the environmental staff of the FERC's Office of Energy Projects.

This notice is being sent to affected landowners; federal, state, and local government representatives and agencies; elected officials; environmental and public interest groups; Native American tribes; other interested parties; and local libraries and newspapers. State and local government representatives are asked to notify their constituents of this planned project and encourage them to comment on their areas of concern.

Summary of the Proposed Projects

Export Project

The purpose of the project is to add Liquefied Natural Gas (LNG) export capabilities/functionality to the previously authorized Freeport LNG Terminal Facilities located in Brazoria County, Texas. Freeport LNG is seeking authorization to operate its facility for the purpose of exporting LNG. Freeport LNG proposes to operate its existing Freeport LNG Terminal facility to export LNG on a short-term basis by holding cargos of imported LNG in its LNG tanks for re-export. To accomplish this, Freeport LNG would replace a check valve and upgrade a control valve. Both valves are on the existing dock of the Freeport LNG Terminal. The existing dock is shown in the figure included as Appendix 1.⁴

⁴ The appendices referenced in this notice are not being printed in the Federal Register. Copies of all appendices are available on the Commission's Web site at the “eLibrary” link or from the Commission's Public Reference Room, 888 First Street, NE., Washington, DC 20426, or call (202) 502-8371. For instructions on connecting to eLibrary, refer to the Public Participation section of this notice. Copies of the appendices were sent to all those receiving this notice in the mail.

The proposed replacement and modification of the valves would allow the LNG to be transferred from the LNG storage tanks through the existing LNG transfer lines to the unloading/loading arms and to a receiving ship for export and transportation.

BOG/Truck Project

The purpose of the project is to provide greater latitude to acquire LNG for maintenance and operation of the existing Phase I facilities at the previously authorized Freeport LNG Terminal Facilities located in Brazoria County, Texas during periods when LNG deliveries may not otherwise be available. The general locations of these facilities are shown on the map in Appendix 1. The BOG liquefaction facilities would consist of:

• One BOG liquefaction heat exchanger;

• One BOG liquefaction expander-compressor;

• Two BOG refrigeration compressor units (approximately 1,380 horsepower each);

• Natural gas piping, 4- to 12-inch-diameter aboveground piping; and

• LNG piping, 4-inch-diameter aboveground piping.

These facilities would allow Freeport to liquefy about 5 million cubic feet per day of BOG and return it to the LNG storage tanks in order to keep the tanks in the necessary cryogenic state. The BOG liquefaction system would also require pressure and temperature controllers; and associated electrical, control, lighting instrumentation, and communication systems.

In addition, Freeport LNG is proposing certain facility modifications to enable it to undertake LNG truck unloading activities in the event that the BOG liquefaction facilities are not available. LNG would be trucked in from an existing commercial LNG supplier (Clean Energy Fuels Corporation) located 40 miles north of Houston. The truck unloading facilities would require the installation of a single 4-inch-diameter inlet connection and valves on one of the existing LNG transfer lines and a 25 horsepower portable electric pump, if needed. Freeport LNG would use these facilities to transfer the LNG from the trucks to the existing tanks. Freeport LNG anticipates that it would receive truck deliveries per day, totaling 66,000 gallons of LNG during the periods when delivery by truck would be required.

If approved, Freeport LNG proposes to commence construction of the proposed facilities in spring of 2009.

Land Requirements

Since the Freeport LNG Terminal already includes all required plant components to facilitate the Export Project other than the valve modifications, no land disturbance would be required.

The land that would be disturbed for the BOG/Truck Project would be within the footprint of the existing LNG facility.

The EA Process

The National Environmental Policy Act (NEPA) requires the Commission to take into account the environmental impacts that could result from an action. The FERC will use the EA to consider the environmental impact that could result if the project is authorized under section 3 of the Natural Gas Act. NEPA also requires us to discover and address concerns the public may have about proposals. This process is referred to as “scoping.” The main goal of the scoping process is to focus the analysis in the EA on the important environmental issues. By this Notice of Intent, the Commission staff requests public comments on the scope of the issues to be addressed in the EA. All comments received will be considered during preparation of the EA.

In the EA we will discuss impacts that could occur as a result of the construction and operation of the proposed project under these general headings:

• Geology and soils;

• Land use;

• Water resources, fisheries, ballast water, and wetlands;

• Cultural resources;

• Vegetation and wildlife;

• Threatened and endangered species;

• Air quality and noise;

• Hazardous waste; and

• Public safety.

In the EA, we will also evaluate possible alternatives to the proposed projects, and make recommendations on how to lessen or avoid impacts on affected resources.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission. To ensure your comments are considered, please carefully follow the instructions in the public participation section below

With this NOI, we are asking federal, state, and local agencies with jurisdiction and/or special expertise with respect to environmental issues to formally cooperate with us in the preparation of the EA. These agencies may choose to participate once they have evaluated the proposal relative to their responsibilities. Additional agencies that would like to request cooperating agency status should follow the instructions for filing comments provided under the Public Participation section of this NOI.

Currently Identified Environmental Issues

We have already identified several issues that we think deserve attention based on a preliminary review of the proposed facilities and the environmental information provided by Freeport LNG. This preliminary list of issues may be changed based on your comments and our analysis.

• Potential impacts on water quality.

• Potential impacts on air quality and potential noise emissions may occur.

Public Participation

You can make a difference by providing us with your specific comments or concerns about the Freeport Projects. Your comments should focus on the potential environmental effects, reasonable alternatives, and measures to avoid or lessen environmental impacts. The more specific your comments, the more useful they will be. To ensure that your comments are timely and properly recorded, please send in your comments so that they will be received in Washington, DC on or before February 11, 2009.

For your convenience, there are three methods which you can use to submit your comments to the Commission. In all instances please reference the project docket number CP03-75-003 and CP03-75-004 with your submission. The docket numbers can be found on the front of this notice. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 2, PJ11.2.

Environmental Mailing List

An effort is being made to send this notice to all individuals, organizations, and government entities interested in and/or potentially affected by the proposed project. This includes all who own homes within distances defined in the Commission's regulations of certain aboveground facilities.

If you do not want to send comments at this time but still want to remain on our mailing list, please return the Information Request (Appendix 2). If you do not return the Information Request, you will be taken off the mailing list.

Becoming an Intervenor

In addition to involvement in the EA scoping process, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site.

Additional Information

Additional information about the project is available from the Commission's Office of External Affairs, at 1-866-208-FERC (3372) or on the FERC Internet Web site (http://www.ferc.gov) using the “eLibrary link.” Click on the eLibrary link, click on “General Search” and enter the project docket number excluding the last three digits (i.e., CP03-75) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rulemakings.

In addition, the FERC now offers a free service called “eSubscription” which allows you to keep track of all formal issuances and submittals in specific dockets. This can reduce the amount of time you spend researching proceedings by automatically providing you with notification of these filings, document summaries, and direct links to the documents. Go to http://www.ferc.gov/esubscribenow.htm.

Kimberly D. Bose,
Secretary.

[FR Doc. E9-1020 Filed 1-16-09; 8:45 am]

BILLING CODE 6717-01-P